DEPARTMENT OF HEALTH AND HUMAN SERVICES

Centers for Medicare & Medicaid Services

[CMS-4036-N]

Medicare Program: Meeting of the Advisory Panel on Medicare Education—May 23, 2002

AGENCY: Centers for Medicare & Medicaid Services (CMS), HHS.

ACTION: Notice of meeting.

SUMMARY: In accordance with the Federal Advisory Committee Act, 5 U.S.C. Appendix 2, section 10(a) (Public Law 92-463), this notice announces a meeting of the Advisory Panel on Medicare Education (the Panel) on May 23, 2002. The Panel advises and makes recommendations to the Secretary of the Department of Health and Human Services (HHS) and the Administrator of the Centers for Medicare & Medicaid Services (CMS) on opportunities to enhance the effectiveness of consumer education strategies concerning the Medicare program. This meeting is open to the public.

DATES: The Meeting: The meeting is scheduled for May 23, 2002, from 9 a.m. to 5 p.m., Eastern Daylight Savings Time.

Deadline for Presentations and Comments: May 16, 2002, 12 noon, Eastern Daylight Savings Time.

ADDRESSES: The meeting will be held at the Wyndham Washington, DC, 1400 M Street, NW., Washington, DC, 20005, (202) 429-1700.

FOR FURTHER INFORMATION CONTACT: Nancy Caliman, Health Insurance Specialist, Division of Partnership Development, Center for Beneficiary Choices, Centers for Medicare & Medicaid Services, 7500 Security Boulevard, S2-23-05, Baltimore, MD, 21244-1850, (410) 786-5052. Please refer to the CMS Advisory Committees Information Line (1-877-449-5659 toll free)/(410-786-9379 local) or the Internet (http://www.hcfa.gov/events/apme/homepage.htm) for additional information and updates on committee activities, or contact Ms. Caliman via e-mail at ncaliman@cms.hhs.gov. Press inquiries are handled through the CMS Press Office at (202) 690-6145.

SUPPLEMENTARY INFORMATION: Section 222 of the Public Health Service Act (42 U.S.C. 217a), as amended, grants to the Secretary the authority to establish an advisory panel if the Secretary finds the panel necessary and in the public interest. The Secretary signed the charter establishing this Panel on January 21, 1999 (64 FR 7849) and approved the renewal of the charter on January 18, 2001. The Panel advises and makes recommendations to the Secretary and the Administrator of the Centers for Medicare & Medicaid Services on opportunities to enhance the effectiveness of consumer education strategies concerning the Medicare program:

The goals of the Panel are as follows:

• To develop and implement a national Medicare education program that describes the options for selecting a health plan under Medicare.

• To enhance the Federal government's effectiveness in informing the Medicare consumer, including the appropriate use of public-private partnerships.

• To expand outreach to vulnerable and underserved communities, including racial and ethnic minorities, in the context of a national Medicare education program.

• To assemble an information base of best practices for helping consumers evaluate health plan options and build a community infrastructure for information, counseling, and assistance.

The current members of the Panel are: David Baldridge, Executive Director, National Indian Council on Aging; Carol Cronin, Chairperson, Advisory Panel on Medicare Education; and Jennie Chin Hansen, Executive Director, On Lok Senior Health Services.

The agenda for the May 23, 2002 meeting will include the following:

• Swearing in and introduction of new members.

• Recap of the previous (February 13, 2002) meeting.

• CMS update/issues.

• Medicare & You overview and update.

• Long Term Care Quality Initiative.

• Update on the Fall Medicare Campaign.

• Annual report of the Advisory Panel on Medicare Education.

• Public comment.

Individuals or organizations that wish to make a 5-minute oral presentation on an agenda topic should contact Ms. Caliman by 12 noon, May 16, 2002. A written copy of the oral presentation should also be submitted to Ms. Caliman by 12 noon, May 16, 2002. The number of oral presentations may be limited by the time available. Individuals not wishing to make a presentation may submit written comments to Ms. Caliman by 12 noon, May 16, 2002. The meeting is open to the public, but attendance is limited to the space available. Individuals requiring sign language interpretation for the hearing impaired or other special accommodations should contact Ms. Caliman at least 15 days before the meeting.

Authority: Secs. 1102 and 1871 of the Social Security Act (42 U.S.C. 1302 and 1395hh).

(Catalog of Federal Domestic Assistance Program No. 93.733, Medicare—Hospital Insurance Program; and Program No. 93.774, Medicare—Supplementary Medical Insurance Program)
Dated: April 23, 2002.
Thomas A. Scully,
Administrator, Centers for Medicare & Medicaid Services.

[FR Doc. 02-10323 Filed 4-25-02; 8:45 am]

BILLING CODE 4120-01-P